DEPARTMENT OF COMMERCE

National Oceanic and Atmospheric Administration

50 CFR Parts 600 and 660

[Docket No. 001226367-0367-01; I.D. 092801C]

Fisheries off the West Coast States and in the Western Pacific; Pacific Coast Groundfish Fishery; Trip Limit Adjustments

AGENCY: National Marine Fisheries Service (NMFS), National Oceanic and Atmospheric Administration (NOAA), Commerce.

ACTION: Inseason adjustments/fishing restrictions; request for comments.

SUMMARY: The NMFS announces changes to the following limited entry and open access trip limits in the Pacific Coast groundfish fishery: limited entry trawl for the (“DTS complex”) (Dover sole, thornyheads, and sablefish) species, petrale sole, other flatfish, and arrowtooth flounder; limited entry trawl and open access for minor slope rockfish; limited entry trawl, fixed gear and open access for widow rockfish, yellowtail rockfish, Pacific ocean perch, other flatfish, minor shelf rockfish, canary rockfish, bocaccio rockfish, chilipepper rockfish, minor nearshore rockfish, and lingcod. In addition, this document defines measures that may be taken to keep recreational harvests of bocaccio and canary rockfish off California within the 2001 allocations. This document also announces the last cumulative trip limit period in 2001 for the “B” platoon, those limited entry trawl vessels designated to take their cumulative trip limits two weeks out of phase with the rest of the fleet. These actions, which are authorized under the Pacific Coast Groundfish Fishery Management Plan (FMP), are intended to assist the fisheries in achieving optimum yield (OY) while protecting overfished and depleted stocks.

DATES: Changes to management measures are effective 0001 hour (local time) October 2, 2001, (October 16, 2001 for the “B” platoon) unless modified, superseded, or rescinded. These changes are effective until the effective dates of the specifications and management measures for the Pacific Coast groundfish fishery for 2002, which will be published in the Federal Register. Comments on this rule will be accepted through October 22, 2001.

ADDRESSES: Submit comments to D. Robert Lohn, Administrator, Northwest Region (Regional Administrator), NMFS, 7600 Sand Point Way N.E., BIN C15700, Bldg. 1, Seattle, WA 98115-0070; or Rod McInnis, Acting Regional Administrator, Southwest Region, NMFS, 501 West Ocean Blvd., Suite 4200, Long Beach, CA 90802-4213.

FOR FURTHER INFORMATION CONTACT: Yvonne deReynier or Becky Renko, Northwest Region, NMFS, 206-526-6140.

SUPPLEMENTARY INFORMATION: The following changes to current management measures were recommended by the Pacific Fishery Management Council (Council) at its September 10-14, 2001, meeting in Portland, OR. Pacific Coast groundfish landings will be monitored throughout the remainder of the year, and further adjustments to the trip limits will be made as necessary to stay within the OYs and allocations announced in the 2001 annual specifications and management measures for the groundfish fishery, published in the Federal Register at 66 FR 2338 (January 11, 2001), as amended at 66 FR 10208 (February 14, 2001), at 66 FR 18409 (April 9, 2001), at 66 FR 22467 (May 4, 2001), at 66 FR 28676 (May 24, 2001), at 66 FR 35388 (July 5, 2001), and 66 FR 38162 (July 23, 2001).

To rebuild the canary rockfish stock, which was declared overfished in 2000 (65 FR 221, January 4, 2000), the Council chose to maintain very restrictive canary rockfish trip limits throughout the year. The reduced limits were intended to eliminate direct targeting on canary rockfish. To reduce the incidental catch of canary rockfish, the Council has constrained target fisheries for associated species, and has diverted fishing effort off the continental shelf where canary rockfish are commonly found. Despite these efforts, commercial landings of canary rockfish have been higher than expected through August. Concerns about the incidental catch of canary rockfish have resulted in NMFS deviating from two of the Council’s recommendations and adopting more precautionary measures for trip limit adjustments in the limited entry trawl fisheries.

At the September meeting, the Council recommended no retention of canary rockfish in the limited entry fixed gear and open access fisheries coastwide, but did not address canary rockfish catch in the trawl fisheries. Throughout 2001, the trawl fisheries have been structured to minimize the interception of canary rockfish and NMFS believes that the Council had intended to also further restrict landings of canary rockfish in the trawl fishery. Therefore, consistent with the limited entry fixed gear and open access fisheries restrictions, NMFS will also prohibit the retention of canary rockfish in the limited entry trawl fisheries starting with the October trip limit period. Changes to trip limits for trawl gear fisheries may affect either of the small footrope or large footrope bottom trawl fisheries or the mid-water trawl fisheries.

To allow access to more abundant flatfish stocks, the Council recommended increasing the limited entry trawl gear trip limits for petrale sole taken with small footrope gear from 15,000 lb (16,804) per month to 30,000 lb (13,608 kg) per month, and for large footrope gear from 100 lb ( 45 kg) per trip and 1,000 lb (454 kg) per month to 30,000 lb (13,608 kg) per month, beginning with the October trip limit period. Petrale sole generally move to deep water during the winter months and are not associated with canary rockfish. However, during October some petrale sole may still be found on the continental shelf and a trip limit increase could result in a high incidental catch of canary rockfish. Therefore, NMFS is maintaining the current trip limits for petrale sole through October. During the November and December cumulative periods, NMFS will implement the Council's recommendation of a large and small footrope petrale sole limit of 30,000 lb (13,608 kg) per month.

Limited Entry Trawl Gear limits for DTS Complex North and South of 40°10′ N. Lat.

Dover sole, thornyheads, and sablefish are managed as the “DTS complex.” The best available information indicates that DTS catch in the limited entry trawl fishery has been greater than expected, with Dover sole at 92.0 percent, sablefish at 89.0 percent, and shortspine thornyhead at 79.7 percent of their allocations, through August 31, 2001. To allow fishers access to flatfish stocks without exceeding the Dover sole or sablefish OYs, the Council recommended prohibiting retention of DTS species in the limited entry trawl fishery coastwide starting October 2, 2001.

To account for discard mortality of incidentally caught DTS species in the flatfish fisheries, bycatch rates based on 1999 state logbook data will be used as inseason deductions from remaining DTS allocations. These bycatch rates measure unavoidable associated catch and are based on tows unconstrained by trip limits from 1999 state logbook data. In the petrale sole fishery, rates of 0.8 percent for Dover sole, 5.0 percent for sablefish, and 0.5 percent for shortspine thornyhead will be applied to the landed catch of other flatfish to calculate the amount of incidentally caught DTS species. For the other flatfish fishery, rates of 0.5 percent for Dover sole, 0.12 percent for sablefish, and 0.1 percent for shortspine thornyhead will be applied to the landed catch of other flatfish to calculate the amount of incidentally caught DTS species.

Limited Entry Trawl Gear and Open Access Limits For Minor Slope Rockfish North of 40°10′ N. Lat.

NMFS declared darkblotched rockfish overfished on January 11, 2001(66 FR 2338). Although darkblotched rockfish has a separate ABC and OY, it is managed as part of the minor slope rockfish complex. The best available information indicates that 90.6 percent of the open access and limited entry allocations for darkblotched rockfish had been taken through August. To encourage rebuilding of the darkblotched rockfish stock, while at the same time allowing for modest levels of bycatch in other fisheries, the Council recommended decreasing effort in the directed fishery for minor slope rockfish during the remainder of 2001. As of October 2, 2001, the limited entry trawl and open access gears will be prohibited from taking and retaining, possessing or landing minor slope rockfish north of 40°10′ N. lat. Landings of darkblotched rockfish taken with limited entry fixed gear have been low this year. Therefore, the limited entry fixed gear limits for minor slope rockfish north of 40°10′ N. lat. will continue as previously announced.

Limited Entry Trawl Gear Limits for Widow Rockfish and Yellowtail Rockfish North of 40°10′ N. Lat.

Since 2000, the use of mid-water trawl gear has been recommended by the Council as an effective method to harvest widow and yellowtail rockfish above the ocean floor with little incidental catch. The best available information indicates that the catch of widow rockfish in the limited entry trawl fishery was at 66.4 percent and yellowtail rockfish at 74.5 percent of their respective allocations through July. To reduce the likelihood of reaching the widow rockfish OY early and allow for a winter mid-water fishery, the mid-water trawl options for widow and yellowtail rockfish north of 40O10' N. lat. have been restricted to the 1,000 lb (454 kg) per month small footrope limit since July, except for the limit for widow rockfish landed with Pacific whiting which is 2,000 lb (907 kg) per month. To provide fishers access to a widow rockfish mid-water fishery without exceeding the OY before the end of the year, the Council recommended extending the current trip limits through October, then increasing the cumulative limits during November and December. Trip limits for the November to December period will be increased from the scheduled 10,000 lb (4,536 kg) per 2 months to 25,000 lb (11,340 kg) per 2 months.

The incidental catch of canary rockfish is higher during directed fishing for yellowtail rockfish than during directed fish for widow rockfish. Therefore, to discourage directed fishing for yellowtail rockfish because of the associated landing of canary rockfish, the Council recommended a decrease in the scheduled trip limits for yellowtail rockfish during the November to December period. Limits are intended to allow for incidental yellowtail rockfish catch taken by vessels using mid-water trawl gear to harvest widow rockfish, while reducing the incentive for directed yellowtail fishing. For the November through December period, the cumulative 2 month limit for yellowtail rockfish taken with limited entry mid-water trawl gear is decreased from 20,000 lb (9,072 kg) per 2 months to 15,000 lb (6,804 kg) per 2 months.

In keeping with natural catch association patterns and to reduce yellowtail rockfish discards in the flatfish fisheries, trip limits for yellowtail rockfish taken with flatfish in small footrope fisheries were introduced in 2000 (65 FR 45308, July 21, 2000). To allow incidental catch of yellowtail by vessels targeting flatfish with a small footrope, the Council recommended maintaining current trip limits for the remainder of the year. During the November through December period, the limited entry trawl gear trip limit for yellowtail rockfish taken as bycatch with flatfish shall be no more than the sum of 33 percent (by weight) of all flatfish except arrowtooth flounder, plus 10 percent (by weight) of arrowtooth flounder, not to exceed 7,500 lb (3,402 kg) per trip, nor 15,000 lb (6,804 kg) per 2 months.

Limited Entry Trawl Gear Limits for Other Flatfish, Petrale Sole, and Arrowtooth Flounder North and South of 40°10′ N. Lat.

To allow access to allocations for the healthier flatfish stocks, the Council recommended a trip limit for “other flatfish” taken with small footrope gear in the limited entry trawl fishery of 30,000 lb (13,608 kg) per month starting with the October period. Other flatfish taken with large footrope gear in the limited entry trawl fishery would continue at 1,000 lb (454 kg) per trip. As noted above, the Council's recommended limit for petrale sole taken in the limited entry trawl fisheries, for both small and large footrope gear, was 30,000 lb (13,608 kg) per month. Concerns about the incidental catch of canary rockfish have resulted in NMFS deviating from the Council’s recommendations and adopting more precautionary measures. To minimize the catch of associated rockfish species, including canary rockfish, by vessels directing effort on other flatfish and petrale sole, NMFS will maintain the current small footrope limits of 45,000 lb (20,412 kg) per month for other flatfish, with a sub-limit of 15,000 lb (6,804 kg) per month for petrale sole, and the large footrope limits for petrale sole of 100 lb (45 kg) per trip and an “other flatfish” per trip limit of 1,000 lb (454 kg) during October. NMFS will implement the Council’s recommendation during the November to December period. Therefore, for the November and December period, both the small and large footrope petrale sole limits will be set at 30,000 lb (13,608 kg) per month and the small footrope other flatfish limit will be set at 30,000 lb (13,608 kg) per month. For large footrope gear, a 1,000 lb (454 kg) per trip other flatfish limit will continue to be in effect. As of October 2, 2001, arrowtooth flounder taken in the limited entry trawl fisheries using large and small footrope gear will have a 5,000 lb (2,268 kg) per trip limit and a 30,000-lb (13,608-kg) monthly limit.

Limited Entry Trawl, Fixed Gear and Open Access Limits For Pacific Ocean Perch

The best available information indicates that 90.6 percent of the open access and limited entry allocations for darkblotched rockfish had been taken through August. Concerns about the incidental catch of darkblotched rockfish by vessels directing effort on Pacific ocean perch have resulted in the Council recommending that further taking and retaining, possessing or landing of Pacific ocean perch be prohibited for all limited entry and open access gears for the remainder of the year. NMFS concurs with this recommendation.

Limited Entry Trawl, Fixed Gear and Open Access Limits For Boccacio and Canary Rockfish Coastwide

Bocaccio rockfish (64 FR 49092, September 10, 1999), along with canary rockfish, have been declared overfished. The Council is developing rebuilding plans for these two species. The 2001 OYs for bocaccio rockfish and canary rockfish were set consistent with the rebuilding plans under development. Throughout the year, the Council has set low trip limits to allow incidental catch of these species in fisheries for healthy stocks while removing the incentive for directed fishing. Despite these conservative measures, the catch of bocaccio and canary rockfish has been higher than expected during 2001. To prevent these overfished species from exceeding their 2001 OYs and hindering rebuilding, the Council recommended prohibiting taking and retaining, possessing or landing of bocaccio rockfish and canary rockfish in the limited entry and open access fisheries (including the exempted gears) coastwide for the remainder of the year. NMFS concurs with this recommendation.

Limited Entry Trawl Limits For Shelf Rockfish North and South of 40°10′ N. Lat.

Throughout the year, fishing effort has been diverted off the sea floor of the continental shelf where several overfished species, canary, widow, and bocaccio rockfish, are commonly found. To allow for modest levels of incidental catch of shelf rockfish in the limited entry trawl fishery for flatfish while discouraging targeting of shelf species, the Council recommended a decrease in the cumulative limits for minor shelf rockfish. As of October 2, 2001, the limit for minor shelf rockfish taken in the limited entry trawl fishery north of 40°10′ N lat. will decrease from 1,000 lb (454 kg) per month to 300 lb (136 kg) per month and south of 40°10′ N. lat. from 1,000 lb (454 kg) to 500 lb (227 kg) per month.

Limited Entry Trawl Small Footrope Gear, Limited Entry Fixed Gear and Open Access for Chilipepper Rockfish South of 40°10′ N. Lat.

NMFS declared bocaccio rockfish overfished in 1999. Concerns about the incidental catch of bocaccio rockfish by vessels directing effort on chilipepper rockfish resulted in the 2001 OY for chilipepper rockfish being set lower than would have otherwise been necessary. Concerns about the incidental catch of bocaccio rockfish resulted in the Council also recommending a decrease in cumulative limits for chilipepper rockfish taken with small footrope trawl from 7,500 lb (3,402 kg) per 2 months to 5,000 lb (2,268 kg) per 2 months for the November through December periods. The Council additionally recommended closing chilipepper rockfish landings for the limited entry fixed gear and open access fisheries starting October 2, 2001. NMFS concurs with this recommendation.

Limited Entry Trawl, Fixed Gear and Open Access Limits For Lingcod North and South of 40°10′ N. Lat.

The catch of lingcod in the trawl and fixed gear fisheries during 2001 has been slightly lower than expected. Through July 31, 2001, the landings of lingcod were at 55.8 percent of the OY. In order to provide fishers greater access to the OY for lingcod, the Council recommended an increase in lingcod trip limits. For the month of October, lingcod trip limits for all commercial fisheries coastwide will increase from 400 lb (181 kg) per month to 500 lb (227 kg) per month. To limit effort during the winter spawning season, there will still be no retention of lingcod during November through December in all fisheries coastwide.

Limited Entry Fixed Gear and Open Access Limits for Minor Nearshore Rockfish North and South of 40°10′ N. Lat.

Because the nearshore rockfish recreational harvests north of 40°10′ N. lat. have been greater than expected, the Council recommended reducing trip limits to slow the fishery. The scheduled cumulative limits for minor nearshore rockfish taken with limited entry fixed gear and open access were 7,000 lb (3,175 kg) per 2 months, with a limited entry sub-limit of no more than 4,000 lb (1,814 kg) and an open access sub-limit no more than 900 lb (408 kg) of species other than black or blue rockfish. For both limited entry fixed gear and open access, the new nearshore rockfish limits will be 2,000 lb (907 kg) per month, of which no more than 800 lb (363 kg) may be species other than black or blue rockfish effective October 2, 2001. South of 40°10′ N. lat., nearshore rockfish harvest has been relatively slow in 2001. Thus, cumulative limits of minor nearshore rockfish taken with limited entry fixed gear will increase from 2,000 lb (907 kg) per 2 months to 3,000 lb (1,361 kg) per 2 months as of October 2, 2001. As of October 2, 2001, cumulative limits of minor nearshore rockfish taken with open access gear south of 40°10′ N. lat. will also increase, from 1,200 lb (544 kg) per 2 months to 3,000 lb (1,361 kg) per 2 months.

Limited Entry Fixed Gear and Open Access Limits for Shelf Rockfish, including Widow Rockfish and Yellowtail Rockfish, North and South of 40°10′ N Lat.

To prevent bocaccio and canary rockfish from exceeding their 2001 OYs and hindering rebuilding, the Council recommended closing directed fishing for all shelf rockfish species.

Effective October 2, 2001, the taking and retaining, possessing or landing of minor shelf rockfish, and of widow and yellowtail rockfish, north and south of 40°10′ N. lat. in the limited entry fixed gear and open access fixed gear fisheries will be prohibited.

California Recreational Limits for Bocaccio and Canary Rockfish

The California Fish and Game Commission will meet in early October to discuss recreational catch and management measures for bocaccio and canary rockfish. At this time, the recreational catch of canary and bocaccio rockfish is approaching harvest guidelines. If the Commission determines at that meeting to close recreational fisheries for canary and bocaccio rockfish inside state waters because the harvest guidelines have been reached, NMFS will publish complementary closures for Federal waters in the Federal Register.

Final Period for the “B” Platoon

NMFS also announces the last cumulative trip limit period in 2001 for the “B” platoon, those limited entry trawl vessels designated (on their limited entry permit) to take their cumulative trip limits 2 weeks out of phase with the rest of the fleet. For vessels in the “B” platoon, the final cumulative period will be from November 16, 2001, through December 31, 2001. For species managed with monthly cumulative limits, vessels in the “B” platoon may take the November and December limits for those species during November 16, 2001, through December 31, 2001. For species for which there are 2 month cumulative limits, vessels in the “B” platoon may take the final 2 month cumulative limit during the final period from November 16, 2001, through December 31, 2001.

NMFS Actions

For the reasons stated here, NMFS announces the following changes to the 2001 annual specifications and management measures (66 FR 2338, January 11, 2001, as subsequently amended) as follows:

In Section IV, under B. Limited Entry Fishery, and under C. 1. Trip Limits in the Open Access Fishery, Tables 3, 4, and 5 are revised to read as follows.

IV. NMFS Actions

B. Limited Entry Fishery

* * * * *

C. Trip limits in the Open Access Fishery

* * * * *

BILLING CODE 3510-22-C

(a) * * *

2. In section IV., under B. Limited Entry Fishery, paragraphs (3) and (5) are revised, to read as follows:

(3) Groundfish taken with exempted trawl gear by vessels engaged in fishing for pink shrimp.

(a)

(i)* * *

(A) * * *

(B) Starting May 1, 2001, through September 30, 2001: 200 lb (91 kg) per month.

(C) Starting October 2, 2001, taking and retaining, possessing or landing canary rockfish with exempted trawl gear by vessels engaged in fishing for pink shrimp is prohibited.

* * * * *

(5) Groundfish taken with troll gear by vessels engaged in fishing for salmon north of 40°10′ N lat.

Beginning October 1, the trip limits in Table 5 apply to all groundfish taken with troll gear by vessels fishing for salmon.

* * * * *

Classification

These actions are authorized by the regulations implementing the FMP and the annual specifications and management measures published at 66 FR 2338 (January 11, 2001), as amended at 66 FR 10208 (February 14, 2001), at 66 FR 18409 (April 9, 2001), at 66 FR 22467 (May 4, 2001), at 66 FR 28676 (May 24, 2001), at 66 FR 35388 (July 5, 2001), and 66 FR 38162 (July 23, 2001) and are based on the most recent data available.

The Assistant Administrator for Fisheries, NOAA, (AA) finds good cause to waive the requirement to provide prior notice and comment on this action pursuant to 5 U.S.C. 553 (b)(3)(B), as providing prior notice and opportunity for comment would be impracticable. It would be impracticable because the groundfish cumulative landing limit period begins on October 2, 2001, and affording additional notice and opportunity for public comment would impede the agency’s responsibility under the FMP to manage groundfish fisheries to achieve OY. Increases to trip limits relieve restrictions on the public and decreases to trip limits and closures must be implemented in a timely manner to either stretch the season out as long as possible through the year or to protect overfished and depleted species. For species where cumulative landing limits have been raised, such changes would prevent a fisher from achieving the higher limit allowed during this cumulative landing limit period, thereby unnecessarily restricting the fisher. For species where cumulative landing limits have been lowered or closed, a delay in implementing such changes would allow a fisher to achieve the pre-existing higher limits, and thus frustrate the conservation objectives of the cumulative landing limit changes, or force further reductions for the entire fleet later in the season. In short, allowing for public comment on these in-season changes and thus delaying their implementation would hinder the benefits to be obtained by making new limits effective during this cumulative landing limit period (either additional fish available to the fisher, or reduced limits to protect a species).

For these reasons, good cause also exists to waive the 30-day delay in effectiveness requirement of 5 U.S.C. 553 (d)(3).

These actions are taken under the authority of 50 CFR 660.323(b)(1), and are exempt from review under Executive Order 12866.

Dated: October 2, 2001.
Bruce C. Morehead,
Acting Director, Office of Sustainable Fisheries, National Marine Fisheries Service.

[FR Doc. 01-25031 Filed 10-2-01; 4:49 pm]

BILLING CODE 3510-22-S